DEPARTMENT OF TRANSPORTATION

Federal Motor Carrier Safety Administration

[Docket No. FMCSA-2006-26367]

Motor Carrier Safety Advisory Committee Public Meeting

AGENCY: Federal Motor Carrier Safety Administration (FMCSA), DOT.

ACTION: Notice of Motor Carrier Safety Advisory Committee Meeting.

SUMMARY: FMCSA announces that its Motor Carrier Safety Advisory Committee (MCSAC) will hold a committee meeting on February 1-2, 2010 to complete its work of providing information, concepts and ideas to the Agency relating to the hours-of-service (HOS) requirements for drivers of property-carrying vehicles.

DATES: The meeting will be held on February 1-2, 2010, from 8:30 a.m. to 4:30 p.m. Eastern Standard Time.

Location: This meeting is open to the public via conference call. Any interested person may call 1-800-593-0737, passcode 1997315, to listen to the entire meeting.

Matters To Be Considered: The MCSAC will complete its work on Task 10-01, provide information, concepts and ideas to FMCSA relating to the HOS requirements for drivers of property-carrying vehicles.

FOR FURTHER INFORMATION CONTACT: Mr. Jack Kostelnik, Acting Chief, Strategic Planning and Program Evaluation Division, Office of Policy Plans and Regulation, Federal Motor Carrier Safety Administration, U.S. Department of Transportation, 1200 New Jersey Avenue, SE., Washington, DC 20590, (202) 366-5721, mcsac@dot.gov.

SUPPLEMENTARY INFORMATION:

I. Background

MCSAC

Section 4144 of the Safe, Accountable, Flexible, Efficient Transportation Equity Act: A Legacy for Users (SAFETEA-LU) (Pub. L. 109-59, 119 Stat. 1144, August 10, 2005) required the Secretary of Transportation to establish a Motor Carrier Safety Advisory Committee. The committee provides advice and recommendations to the FMCSA Administrator on motor carrier safety programs and regulations, and operates in accordance with the Federal Advisory Committee Act (5 U.S.C. App 2).

Hours-of-Service Task

On October 26, 2009, Public Citizen, et al., (the Petitioners) and FMCSA entered into a settlement agreement pursuant to which the parties agreed to seek to have the petition for judicial review of the November 19, 2008, Final Rule on hours of service of drivers held in abeyance pending the publication of a Notice of Proposed Rulemaking (NPRM). The settlement agreement states that FMCSA will submit the draft NPRM to the Office of Management and Budget (OMB) within nine months of the date of the settlement, and will publish a Final Rule within 21 months of the date of the settlement agreement. The settlement agreement does not include any guidance, direction(s) or restrictions on the scope and content of the forthcoming NPRM or make any commitments on the outcome of the notice-and-comment rulemaking process. The current rule will remain in effect during the rulemaking proceedings.

The MCSAC began work on Task 10-01 at its December 7-9, 2009, meeting. Information from that meeting has been posted to the Committee's Web site, http://mcsac.fmcsa.dot.gov.

The MCSAC task is one of several steps that FMCSA is taking as it revisits the HOS requirements for drivers of property-carrying vehicles. Other steps will include holding public listening sessions across the country beginning on January 19, 2009 and the opportunity for public comment on the forthcoming NPRM.

II. Meeting Participation

The February 1-2 MCSAC meeting is open to the public via teleconference so that all interested parties, including safety advocacy groups, State safety agencies, motor carriers, motor carrier associations, owner-operators, drivers, and labor unions may listen to the discussion.

For information on services for individuals with disabilities or to request special assistance, please e-mail your request to mcsac@dot.gov by Wednesday, January 27, 2010.

Please note that because of time limitations, oral comments will not be accepted via the teleconference line. However, members of the public are invited to participate in one of the public listening sessions announced on January 5, 2010 (75 FR 285), and elsewhere in today's Federal Register, and to provide oral and/or written comments, information, concepts and ideas the Agency should consider in developing the forthcoming HOS NPRM during one of those public listening sessions.

Interested parties may also submit written comments on this topic to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue, SE., West Building, Room WI2-140, Washington, DC 20590.

• Hand Delivery: U.S. Department of Transportation, 1200 New Jersey Avenue, SE., Room WI2-140, Washington, DC, between 9 a.m. and 5 p.m., Monday through Friday, except Federal holidays.

Issued on: January 13, 2010.
Larry W. Minor,
Associate Administrator for Policy and Program Development.

[FR Doc. 2010-828 Filed 1-15-10; 8:45 am]

BILLING CODE 4910-EX-P